DEPARTMENT OF COMMERCE

International Trade Administration

[A-533-502]

Certain Welded Carbon Steel Standard Pipes and Tubes From India: Rescission of Antidumping Duty Administrative Review in Part

AGENCY: Import Administration, International Trade Administration, Department of Commerce.

SUMMARY: On June 24, 2009, in response to requests from the Wheatland Tube Company (the petitioner), the Department of Commerce (the Department) published a notice of initiation of administrative review of the antidumping duty order on certain welded carbon steel standard pipes and tubes from India. The period of review is May 1, 2008, through April 30, 2009. The Department is rescinding this review in part.

DATES: Effective Date: October 29, 2009.

FOR FURTHER INFORMATION CONTACT: Catherine Cartsos, AD/CVD Operations, Office 5, Import Administration, International Trade Administration, U.S. Department of Commerce, 14th Street and Constitution Avenue, NW., Washington, DC 20230; telephone: (202) 482-1757.

SUPPLEMENTARY INFORMATION:

Background

On June 24, 2009, in response to a request from the petitioner, the Department published a notice of initiation of administrative review of the antidumping duty order on certain welded carbon steel standard pipes and tubes from India. See Initiation of Antidumping and Countervailing Duty Administrative Reviews and Requests for Revocation in Part, 74 FR 30052 (June 24, 2009). The Department selected two mandatory respondents, Lloyds Metals and Engineers Limited (Lloyds Metals) and Jindal Industries Ltd. (Jindal). See Memorandum to Laurie Parkhill entitled “Antidumping Duty Order on Certain Welded Carbon Steel Standard Pipes and Tubes from India—Respondent Selection” dated July 28, 2009. On September 22, 2009, the petitioner withdrew its request for an administrative review of Jindal. See letter from the petitioner entitled “Certain Welded Carbon Steel Standard Pipes and Tubes from India—Withdrawal of Request For Administrative Review of Jindal” dated September 22, 2009.

Rescission of Review in Part

In accordance with 19 CFR 351.213(d)(1) the Department will rescind an administrative review “if a party that requested a review withdraws the request within 90 days of the date of publication of notice of initiation of the requested review.” We received the petitioner's withdrawal letter within the 90-day time limit. Because the Department received no other requests for review of Jindal Industries Ltd., the Department is rescinding the review in part with respect to certain welded carbon steel standard pipes and tubes from India from Jindal. This administrative review will continue with respect to Lloyds Metals. This rescission is pursuant to 19 CFR 351.213(d)(1). The Department intends to issue appropriate assessment instructions to U.S. Customs and Border Protection 15 days after publication of this notice.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

We are issuing and publishing this rescission in accordance with section 777(i)(1) of the Tariff Act of 1930, as amended, and 19 CFR 351.213(d)(4).

Dated: October 23, 2009.
John M. Andersen,
Acting Deputy Assistant Secretary for Antidumping and Countervailing Duty Operations.

[FR Doc. E9-26103 Filed 10-28-09; 8:45 am]

BILLING CODE 3510-DS-P